DEPARTMENT OF THE INTERIOR

National Park Service

[NPS-WASO-NAGPRA-19650; PPWOCRADN0-PCU00RP14.R50000]

Notice of Inventory Completion: American Museum of Natural History, New York, NY

AGENCY: National Park Service, Interior.

ACTION: Notice.

SUMMARY: The American Museum of Natural History has completed an inventory of human remains and associated funerary objects in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the American Museum of Natural History. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the American Museum of Natural History at the address in this notice by January 7, 2016.

ADDRESSES: Nell Murphy, American Museum of Natural History, Central Park West at 79th Street, New York, NY 10024, telephone (201) 876-4194, email nmurphy@amnh.org.

SUPPLEMENTARY INFORMATION: Notice is here given in accordance with the Native American Graves Protection and Repatriation Act (NAGPRA), 25 U.S.C. 3003, of the completion of an inventory of human remains and associated funerary objects under the control of the American Museum of Natural History, New York, NY. The human remains and associated funerary objects were removed from Pueblo San Pedro Viejo, Bernalillo County, NM.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the American Museum of Natural History professional staff in consultation with representatives of Hopi Tribe of Arizona; Kewa Pueblo, New Mexico (previously listed as the Pueblo of Santo Domingo); Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Ysleta del Sur Pueblo (previously listed as Ysleta del Sur Pueblo of Texas).

History and Description of the Remains

In 1914, human remains representing, at minimum, 37 individuals were removed from Pueblo San Pedro Viejo, in Bernalillo County, NM during Nels C. Nelson's excavations sponsored by the American Museum of Natural History. A total of 13 individuals were removed from the South Ruin, including 4 adult females, 1 possible adult female individual, 2 adults of unknown sex, 3 sub-adults of unknown sex, and 3 individuals of unknown age and sex. A total of 23 individuals were removed from the North Ruin, including 3 adult males, 3 possible adult males, 2 adult females, 3 possible adult female individuals, 7 adults of unknown sex, and 5 sub-adults of unknown sex. No provenience information was available for 1 adult female individual. No known individuals were identified. The 3 associated funerary objects are 1 complete ceramic redware bowl, 1 reconstructed ceramic polychrome bowl, and 1 mostly complete ceramic grayware jar.

These remains, which have not been directly dated, have been identified as Native American based on archeological context and associated funerary objects. This Ancestral Pueblo village, more commonly known as Paak'u, includes multiple components that date from Pueblo IV (A.D. 1300-1425) (Tano Basin, Santa Fe Phase), and from Spanish Contact/Colonial (A.D. 1525) to the Pueblo Revolt (A.D. 1692) (Tano Basin, Glaze E Phase). The pueblo was abandoned before 1680. Based on oral traditions and expert opinion that Paak'u was an ancestral site to the Pueblos of Kewa, San Felipe and Santa Ana, the weight of evidence supports affiliation with Kewa Pueblo, New Mexico, Pueblo of San Felipe, New Mexico, and Pueblo of Santa Ana, New Mexico.

Determinations Made by the American Museum of Natural History

Officials of the American Museum of Natural History have determined that:

• Pursuant to 25 U.S.C. 3001(9), the human remains described in this notice represent the physical remains of 37 individuals of Native American ancestry.

• Pursuant to 25 U.S.C. 3001(3)(A), the 3 objects described in this notice are reasonably believed to have been placed with or near individual human remains at the time of death or later as part of the death rite or ceremony.

• Pursuant to 25 U.S.C. 3001(2), there is a relationship of shared group identity that can be reasonably traced between the Native American human remains and associated funerary objects and Kewa Pueblo, New Mexico, Pueblo of San Felipe, New Mexico, and Pueblo of Santa Ana, New Mexico.

Additional Requestors and Disposition

Lineal descendants or representatives of any Indian tribe or Native Hawaiian organization not identified in this notice that wish to request transfer of control of these human remains and associated funerary objects should submit a written request with information in support of the request to Nell Murphy, American Museum of Natural History, Central Park West at 79th Street, New York, NY 10024, (201) 876-4194, email nmurphy@amnh.org., by January 7, 2016. After that date, if no additional requestors have come forward, transfer of control of the human remains and associated funerary objects to Kewa Pueblo, New Mexico, Pueblo of San Felipe, New Mexico, and Pueblo of Santa Ana, New Mexico may proceed.

The American Museum of Natural History is responsible for notifying Hopi Tribe of Arizona; Kewa Pueblo, New Mexico (previously listed as the Pueblo of Santo Domingo); Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Ysleta del Sur Pueblo (previously listed as Ysleta del Sur Pueblo of Texas), Pueblo of San Felipe, New Mexico, and Pueblo of Santa Ana, New Mexico, that this notice has been published.

Dated: October 21, 2015.
Melanie O'Brien,
Manager, National NAGPRA Program.

[FR Doc. 2015-30902 Filed 12-7-15; 8:45 am]

BILLING CODE 4312-50-P